DEPARTMENT OF THE INTERIOR

Office of the Secretary

[XXXD4523WC DWDFSE000.3V0000 DS68664000 DP.BCQSO.13DOIC3Y]

Proposed Renewal of Information Collection; Private Rental Survey

AGENCY: Office of Acquisition and Property Management, Office of the Secretary, Interior.

ACTION: Notice and request for comments.

SUMMARY: In compliance with the Paperwork Reduction Act of 1995, the Office of Acquisition and Property Management, Office of the Secretary, Department of the Interior announces the proposed extension of a public information collection and seeks public comments on the provisions thereof.

DATES: Consideration will be given to all comments received by September 6, 2013.

ADDRESSES: Send your written comments to: Doug Pokorney, Quarters Rental Program Manager, 7301 W. Mansfield Ave., Denver, CO 80235, or fax to: 303-969-6634, or by email to Doug_B_Pokorney@nbc.gov. Individuals providing comments should reference OMB control number 1084-0033, “Private Rental Survey”.

FOR FURTHER INFORMATION CONTACT: To request a copy of the information collection request, any explanatory information and related forms, contact Doug Pokorney, Quarters Rental Program Manager, 7301 W. Mansfield Ave., Denver, CO 80235, or phone: 303-939-5050, or fax: 303-969-6634, or by email to Doug_B_Pokorney@nbc.gov.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)).

Public Law 88-459 authorizes Federal agencies to provide housing for Government employees under specified circumstances. In compliance with OMB Circular A-45 (Revised), Rental and Construction of Government Quarters, a review of private rental market housing rates is required at least once every 5 years to ensure that the rental, utility charges, and charges for related services to occupants of Government Furnished Housing (GFH) are comparable to corresponding charges in the private sector. To avoid unnecessary duplication and inconsistent rental rates, the Department of the Interior, Office of the Secretary, Interior Business Center, conducts housing surveys in support of employee housing management programs for the Departments of the Interior (DOI), Agriculture, Commerce, Homeland Security, Justice, Transportation, Health and Human Services, and Veterans Affairs. In this survey, two collection forms are used: OS-2000, covering “Houses—Apartments—Mobile Homes” and OS-2001, covering “Trailer Spaces.”

This collection of information provides data that helps DOI and the other Federal agencies to manage GFH in accordance with the requirements of OMB Circular A-45 (Revised). If this information were not collected from the public, DOI and the other Federal agencies required to provide GFH would be required to use professional appraisals of open market rental costs for GFH, again, in accordance with OMB Circular A-45, but at an increased cost to the taxpayer.

II. Data

(1) Title: Private Rental Survey.

OMB Control Number: 1084-0033.

Current Expiration Date: September 30, 2013.

Type of Review: Information Collection Renewal.

Affected Entities: Individuals or households, businesses and other for profit institutions.

Estimated annual number of respondents: OS-2000: 3,841; OS-2001: 200; Total: 4,041.

Frequency of responses: Once per respondent every fourth year. Note: Three or four of 15 total survey regions are surveyed every year. Therefore a respondent may be potentially be surveyed every fourth year, if an individual respondent lives in the same unit and the exact same unit happens to be surveyed again four years later. In addition, if an individual business is a significant rental property owner or rental property manager in the community they may provide multiple responses in the same survey.

(2) Annual reporting and recordkeeping burden: Estimated burden per response: OS-2000: 8 minutes; OS-2001: 6 minutes.

Average number of estimated annual responses: OS-2000: 3,804 (average); OS-2001: 200 (average).

Total estimated average annual reporting: OS-2000: 507 hours; OS-2001: 20 hours, Total: 527 hours.

(3) Description of the need and use of the information: This information collection provides the data that enables DOI to determine open market rental costs for GFH. These rates, in turn, enable DOI and other Federal agencies to set GFH rental rates in accordance with the requirements of OMB Circular A-45 (Revised).

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the point of contact given in the ADDRESSES section. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: July 1, 2013.
Debra E. Sonderman,
Director, Office of Acquisition and Property Management.

[FR Doc. 2013-16247 Filed 7-5-13; 8:45 am]

BILLING CODE 4310-RK-P